SMALL BUSINESS ADMINISTRATION

[Disaster Declaration # 13809 and # 13810]

New Mexico Disaster Number NM-00035

AGENCY: U.S. Small Business Administration.

ACTION: Amendment 1.

SUMMARY: This is an amendment of the Presidential declaration of a major disaster for Public Assistance Only for the State of New Mexico (FEMA-4152-DR), dated 10/29/2013.

Incident: Severe Storms, Flooding, and Mudslides.

Incident Period: 09/09/2013 through 09/22/2013.

Effective Date: 11/27/2013.

Physical Loan Application Deadline Date: 12/30/2013.

Economic Injury (EIDL) Loan Application Deadline Date: 07/29/2014.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of New Mexico, dated 10/29/2013, is hereby amended to include the following areas as adversely affected by the disaster.

Primary Counties: De Baca, Dona Ana, Harding, Lincoln, Otero, Rio Arriba, San Juan, and Isleta, Sandia and Taos Pueblos and the Navajo Nation.

All other information in the original declaration remains unchanged.

(Catalog of Federal Domestic Assistance Numbers 59002 and 59008)

James E. Rivera,
Associate Administrator for Disaster Assistance.

[FR Doc. 2013-29194 Filed 12-5-13; 8:45 am]

BILLING CODE 8025-01-P